DEPARTMENT OF HOMELAND SECURITY

Coast Guard

33 CFR Part 117

[Docket No. USCG-2018-0033]

Drawbridge Operation Regulation; Curtis Creek, Baltimore, MD

AGENCY: Coast Guard, DHS.

ACTION: Notice of deviation from drawbridge regulation; modification.

SUMMARY: The Coast Guard has modified a temporary deviation from the operating schedule that governs the CSX Swing Bridge, which carries CSX railroad across the New Curtis Creek, mile 1.4, at Baltimore, MD. This modified deviation is necessary to facilitate bridge maintenance. This modified deviation allows the bridge to remain in the closed-to-navigation position.

DATES: This modified deviation is effective without actual notice from April 10, 2018 through 2:30 p.m. on April 13, 2018. For the purposes of enforcement, actual notice will be used from 2:31 p.m. on March 30, 2018, until April 10, 2018.

ADDRESSES: The docket for this deviation, [USCG-2018-0033] is available at http://www.regulations.gov. Type the docket number in the “SEARCH” box and click “SEARCH”. Click on Open Docket Folder on the line associated with this deviation.

FOR FURTHER INFORMATION CONTACT: If you have questions on this modified temporary deviation, call or email Mr. Michael R. Thorogood, Bridge Administration Branch Fifth District, Coast Guard, telephone 757-398-6557, email Michael.R.Thorogood@uscg.mil.

SUPPLEMENTARY INFORMATION: On March 2, 2018, the Coast Guard published a temporary deviation entitled, “Drawbridge Operation Regulation; Curtis Creek, Baltimore, MD” in the Federal Register (83 FR 8938). Subsequent to the that publication, CSX Corporation requested a modification, extending the temporary deviation from 2:31 p.m. on March 30, 2018, through 2:30 p.m. on April 13, 2018. This extension is necessary to provide more time to perform and complete the installation of railroad ties, due to extreme inclement weather which occurred during the previous temporary deviation. Therefore, the Coast Guard modifies the dates of the previously approved temporary deviation to allow the CSX Swing Bridge that carries CSX railroad across the Curtis Creek, mile 1.4, at Baltimore, MD, to remain in the closed-to-navigation position from 8 a.m. to 2:30 p.m., Monday through Friday, from March 5, 2018, through April 13, 2018. The bridge has a vertical clearance of 13 feet above mean high water in the closed position and unlimited clearance in the open position. The current operating schedule is set out in 33 CFR 117.5.

The Curtis Creek is used by a variety of vessels including U.S. government and public vessels, tug and barge traffic, and recreational vessels. The Coast Guard has carefully coordinated the restrictions with waterway users in publishing this temporary deviation.

Vessels able to pass through the bridge in the closed-to-navigation position may do so at any time. The bridge will open on signal, if at least one hour notification is given. The bridge will be able to open for emergencies, if at least 15 minutes notification is given. The bridge may be contacted at (410) 354-5593 24 hours per day. There is no immediate alternative route for vessels unable to pass through the bridge in the closed position. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: April 5, 2018.
Hal R. Pitts,
Bridge Program Manager, Fifth Coast Guard District.

[FR Doc. 2018-07261 Filed 4-9-18; 8:45 am]

BILLING CODE 9110-04-P